DEPARTMENT OF LABOR

Employment and Training Administration

[TA-W-54,519]

Gates Corporation, Air Springs Division, Denver, CO; Notice of Termination of Investigation

Pursuant to section 221 of the Trade Act of 1974, as amended, an investigation was initiated on March 17, 2004, in response to a petition filed on behalf of workers of Gates Corporation, Air Springs Division, Denver, Colorado.

The workers of the subject firm are covered by an active certification that was issued on December 15, 2003, and which remains in effect (TA-W-53,647) through December 15, 2005. Consequently, further investigation in this case would serve no purpose, and the investigation has been terminated.

Signed in Washington, DC this 6th day of April, 2004.
Linda G. Poole,
Certifying Officer, Division of Trade Adjustment Assistance.

[FR Doc. E4-1005 Filed 5-3-04; 8:45 am]

BILLING CODE 4510-13-P